DEPARTMENT OF THE INTERIOR

Bureau of Land Management

[LLCON04000.L71220000.EU0000.LVTFC1700130.17X; COC78146; FMV $800]

Notice of Realty Action: Direct Sale of Public Land in Garfield County, Colorado

AGENCY: Bureau of Land Management.

ACTION: Notice of realty action.

SUMMARY: The Bureau of Land Management (BLM) is proposing a non-competitive (direct) sale of 0.16 acres of public land in Garfield County, Colorado, to Ida Hoaglund, to resolve an inadvertent unauthorized use and occupancy of public land.

DATES: Written comments must be received no later than August 30, 2018.

ADDRESSES: Mail written comments to Gloria Tibbetts, Acting Field Manager, Colorado River Valley Field Office, 2300 River Frontage Road, Silt, CO 81652. Written comments may also be submitted electronically to: blm_co_si_crvfo_webmail@blm.gov.

FOR FURTHER INFORMATION CONTACT: Monte Senor, Realty Specialist, BLM Colorado River Valley Field Office, telephone: (970) 876-9053, email: msenor@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The direct sale is a result of an IBLA-sanctioned settlement agreement to resolve an appeal of a BLM trespass decision involving an unauthorized use of public land. In addition to cash compensation for the sale, the proponent will donate two public access easements to the United States to improve public access for hunting and other recreational opportunities. The donation will be processed, separately from the subject sale, under appropriate acquisition regulations and guidelines.

The subject sale described in this notice will be processed pursuant to Section 203 of the Federal Land Policy and Management Act of 1976 (FLPMA) and BLM disposal regulations. The appraised fair market value of the sale parcel is $800. The proposed sale meets the criteria for direct sales established in FLPMA, Section 203(a)(3) and 43 CFR 2711.3-3(a). Direct sales (without competition) may be used when, in the opinion of the authorized officer, a competitive sale is not appropriate and the public interest would best be served by a direct sale. In accordance with BLM regulations, the BLM authorized officer finds the public interest would best be served by conducting a direct sale pursuant to 43 CFR 2711.3-3(a)(5). This regulation allows a direct sale when a need exists to resolve inadvertent unauthorized use or occupancy of the lands.

The subject parcel, which is located near Rulison Parachute Road and Cottonwood Creek in Garfield County, Colorado, is legally described as:

Sixth Principal Meridian, Colorado

T. 7 S, R. 95 W,

Sec. 2, lot 7.

The area described contains 0.16 acres.

This sale is in conformance with the BLM Colorado River Valley Field Office Record of Decision and Approved Resource Management Plan, approved in June 2015.

A parcel-specific Environmental Assessment (EA) document numbered DOI-BLM-CO-N0400-2018-0008-EA was prepared in connection with this Notice of Realty Action. A copy of the EA is available online at: https://go.usa.gov/xQx6N.

The proposed direct sale would be conducted in compliance with regulations contained in 43 CFR 2711.3-3, which allows the BLM to conduct direct sales of public lands when a competitive sale is not appropriate and the public interest is best served by a direct sale. Pursuant to 43 CFR 2711.1-2, the land would not be sold until after September 14, 2018, and this notice will be published once a week for 3 weeks in the Glenwood Springs Post Independent.

The patent, if issued, would be subject to the following terms, conditions, and reservations:

1. Reservation of a right-of-way thereon for ditches or canals constructed by the authority of the United States, Act of August 30, 1890 (43 U.S.C 945);

2. A reservation of all mineral deposits in the land so patented, and to it, or persons authorized by it, the right to prospect for, mine and remove such deposits from the same under applicable law and such regulations as the Secretary of the Interior may prescribe are reserved to the United States, together with all necessary access and exit rights;

3. Valid existing rights and encumbrances of record including, but not limited to, rights-of-way for roads and public utilities; and

4. An appropriate indemnification clause protecting the United States from claims arising out of the lessees/patentee's use, occupancy, or occupation on the leased/patented lands;

Information concerning the sale, appraisal, reservations, procedures and conditions, and other environmental documents that may appear in the BLM public files for this proposed action are available for review during normal business hours, Monday through Friday, at the BLM Colorado River Valley Field Office, except during Federal holidays. Submit comments on this notice to the address in the ADDRESSES section of this notice.

Before including your address, phone number, email address, or other personally identifiable information in your comments, be aware that your entire comment—including your personally identifiable information—may be made publicly available at any time. While you can ask the BLM in your comment to withhold your personally identifiable information from public review, we cannot guarantee that we will be able to do so.

Any adverse comments regarding this sale will be reviewed by the BLM Colorado State Director or other authorized official of the Department of the Interior, who may sustain, vacate, or modify this realty action in whole or in part. In the absence of timely filed objections, this realty action will become the final determination of the Department of the Interior.

Authority: 43 CFR 2711.

Gregory P. Shoop,
Acting BLM Colorado State Director.

[FR Doc. 2018-15060 Filed 7-13-18; 8:45 am]

BILLING CODE 4310-JB-P